SOCIAL SECURITY ADMINISTRATION

Ticket to Work and Work Incentives Advisory Panel Meeting

AGENCY: Social Security Administration (SSA).

ACTION: Notice of meeting.

DATES: September 26-27, 9 a.m.-5 p.m.

ADDRESSES: Embassy Suites Hotel, 1900 Diagonal Road, Alexandria VA 22314, 703-684-5900

SUPPLEMENTARY INFORMATION: Type of meeting: The meeting is open to the public. The public is invited to participate by coming to the address listed above. The public is also invited to submit comments in writing prior to or at the meeting.

Purpose: In accordance with section 10(a)(2) of the Federal Advisory Committee Act, SSA announces a meeting of the Ticket to Work and Work Incentives Advisory Panel (the Panel). Section 101(f) of the Ticket to Work and Work Incentives Improvement Act of 1999 (TWWIIA), Public Law 106-170, establishes the Panel to advise the Commissioner of Social Security, the President and the Congress on issues related to work incentives programs, planning and assistance for individuals with disabilities as provided under section 101(f)(2)(A) of TWWIIA. The Panel is also to advise the Commissioner on matters specified in section 101(f)(2)(B) of that Act, including certain issues related to the Ticket to Work and Self Sufficiency Program established under section 101(a) of that Act.

This is a deliberative meeting of the Panel. The Panel will meet to discuss the status of TWWIIA implementation. Public testimony regarding the notice of proposed rulemaking published in the Federal Register concerning the implementation of TWWIIA will be heard at this meeting. Interested parties are invited to address the panel for a maximum of three minutes. Speakers must submit full comments in writing and will be recognized in the order in which they register for the meeting until the time for public comment has expired. Any interested citizen is encouraged to submit comments concerning this topic in advance of or at the meeting for the Panel's consideration.

Agenda: The meeting will commence at 9 a.m. Tuesday September 26. The Panel will use this time to discuss the status of TWWIIA implementation and the notice of proposed rulemaking announced in the Federal Register. An outline of the agenda follows this announcement. A copy of the agenda may also be obtained from the Internet at the web site of SSA's Office of Employment Support Programs at http://www.ssa.gov/work or by contacting the Panel staff at the mailing address, Email address, telephone and fax numbers shown below. Requests for materials in alternate formats, i.e., large print, Braille, computer disc, etc. may be made to the Panel staff at the addresses and numbers below.

Records are being kept of all Panel proceedings and will be available for public inspection at the Office of Employment Support Programs web site at http://www.ssa.gov/work or by appointment at the office of the Ticket to Work and Work Incentives Advisory Panel staff, 107 Altmeyer Building, 6401 Security Boulevard, Baltimore, MD 21235. Anyone requiring information regarding the Panel should contact the Panel staff by:

• Mail addressed to Social Security Administration, Ticket to Work and Work Incentives Advisory Panel Staff, 107 Altmeyer Building, 6401 Security Boulevard, Baltimore, MD 21235;

• Telephone at (410) 966-7225.

• Fax at (410) 966-8597.

• Email to TWWIIAPanel@ssa.gov

Dated: September 5, 2000.
Susan M. Daniels,
Deputy Commissioner for Disability and Income Security Programs.

Ticket to Work and Work Incentives; Advisory Panel Meeting, September 26-27, 2000

Tuesday, September 26, 2000

9:00 AM

Meeting Convenes

Welcome—Sarah Mitchell, Presiding

Introductions

Approval of the Minutes

Panel Operating Principles and Procedures

Ticket to Work and Work Incentives Improvement Act (TWWIIA)

Notice of Proposed Rule Making (NPRM)

11:45-1:00 PM

Lunch (On Your Own)

1:00 PM

Meeting Reconvenes Sarah Mitchell, Presiding

1:00 to 3:00 PM

Reserved for Public Testimony

3:30 PM

Panel Discussion

5:00 PM

Adjournment

Wednesday, September 27, 2000

9:00 AM

Meeting Reconvenes—Sarah Mitchell, Presiding

Panel Discussion Continues

11:45-1:00 PM

Lunch (On Your Own)

1:00 PM

Meeting Reconvenes—Sarah Mitchell, Presiding

Follow Up Actions and Assignments

Proposed Time and Place for Fiscal Year 2001 Meetings

Agenda Items for Next Meeting

5:00 PM

Adjournment

[FR Doc. 00-23280 Filed 9-11-00; 8:45 am]

BILLING CODE 4190-29-P